National Science Foundation

Sunshine Act Meetings

FEDERAL REGISTER CITATION OF PREVIOUS ANNOUNCEMENT: This meeting was noticed on October 28. 2022, at 87 FR 65258.

PREVIOUSLY ANNOUNCED TIME AND DATE OF THE MEETING: Friday, November 4, 2022, from 2:00-3:00 p.m. EDT.

CHANGES IN THE MEETING: This meeting is CANCELLED.

CONTACT PERSON FOR MORE INFORMATION: Point of contact for this meeting is: Chris Blair, cblair@nsf.gov, 703-292-7000.

Christopher Blair,
Executive Assistant to the National Science Board Office.

[FR Doc. 2022-24635 Filed 11-7-22; 4:15 pm]

BILLING CODE 7555-01-P